DEPARTMENT OF DEFENSE

Department of the Army, Corps of Engineers

Intent To Prepare a Draft Environmental Impact Statement (DEIS) for a General Reevaluation Study of Navigation Improvements at Miami Harbor, Dade County, FL

AGENCY: U.S. Army Corps of Engineers, DoD.

ACTION: Notice of intent.

SUMMARY: The Jacksonville District, U.S. Army Corps of Engineers intends to prepare a Draft Environmental Impact Statement for Navigation Improvements at Miami Harbor, Dade County, Florida. The study is a cooperative effort between the U.S. Army Corps of Engineers and the Miami-Dade County Seaport Department of the Port of Miami.

FOR FURTHER INFORMATION CONTACT: Rea Boothby, 904-232-3453, Environmental Branch, Planning Division, P.O. Box 4970, Jacksonville, Florida 32232-0019.

SUPPLEMENTARY INFORMATION:

1. Project Background and Authorization

The initial authorization for a Federal channel providing navigation access to the City of Miami occurred in 1902. Later reports and documents recommended further improvement of the harbor's channels, turning basins, and jetties. A Resolution provided by the Committee on Transportation and Infrastructure of the United States House of Representatives dated October 29, 1997 provided the authorization for the current study.

2. Need or Purpose

Improvements, including channel deepening and widening, are required to accommodate future commercial fleet and to more effectively transit the existing fleet. Those improvements would allow commercial ships to call at the harbor with increased draft and cargo tonnage, resulting in transportation cost savings.

3. Proposed Solution and Forecast Completion Date

Widen and deepen the harbor's container ship channels and turning basins. Extend the Federal channel to the west end of Dodge Island. Construction is forecast to begin around October 2003.

4. Prior EAs or EISs

An EIS was prepared in 1985 to accommodate dredging in the Port of Miami.

5. Alternatives

Alternatives currently under consideration include no action, one nonstructural, and five structural alternatives. Six alternatives identified by the Biscayne Bay Pilots and the Miami-Dade County Seaport Department include:

• The first involves flaring the existing 500-foot wide entrance channel to provide an 800-foot wide entrance at buoy 1. Deepening of the entrance channel along Cut-1 and Cut-2 from an existing depth of 44 feet in one-foot increments to a depth of 52 feet will receive consideration.

• The second alternative will consider adding a turn widener between buoys 13 and 15 and deepening to depths of 50 feet.

• Alternative three involves extending the existing Fisher Island turning basin to the north. A turning notch (1600 feet by 1450 feet) extending approximately 500 feet to the north of the existing channel edge along the West End of Cut-3 would require evaluation. Depths from 43 to 50 feet at one-foot increments below the existing depth of 42 feet will receive consideration in the area of the turning notch.

• Alternative four consists of relocating the main channel (cruise ship channel or Cut-4) about 175 feet to the south between channel miles 2 and 3 over a two or three degree transition to the existing cruise ship turning basin. No dredging is expected for alternative four since existing depths allow for continuation of the authorized depth of 36 feet.

• Alternative five proposes to increase the width of the Lummus Island Cut (Fisherman's Channel) about 100 feet to the south of the existing channel. Deepening would include examination of depths below the existing 42-foot depth at one-foot increments from 43 to 50 feet along the proposed widened channel from Cut-3, Station 0+00 to Cut-3, Station 42+00.

• Alternate six includes deepening of Dodge Island Cut and the proposed 1200-foot turning basin from 32 and 34 feet to 36 feet. It also involves relocating the western end of the Dodge Island Cut to accommodate proposed port expansion.

6. Issues

The EIS will consider impacts on seagrasses (including Johnson Seagrass, a threatened species), mangrove, and hardbottom communities, other protected species, Essential Fish Habitat, shore protection, health and safety, water quality, aesthetics and recreation, fish and wildlife resources, cultural resources, energy conservation, socio-economic resources, and other impacts identified through scoping, public involvement, and interagency coordination.

7. Scoping Process

a. A scoping letter was sent to interested parties on January 6, 2000. In addition, all parties were invited to participate in the scoping process by identifying any additional concerns on issues, studies needed, alternatives, procedures, and other matters related to the scoping process.

b. A local, state, and Federal resource agency scoping meeting occurred on March 13, 2000, to determine the areas of coverage for an environmental baseline resource survey. A meeting followed on November 1, 2000, with those resource agencies to review preliminary results.

c. No public scoping meeting is planned at this time.

8. Public Involvement

We invite the participation of affected Federal, state and local agencies, affected Indian tribes, and other interested private organizations and parties.

9. Coordination

The proposed action is being coordinated with the U.S. Fish and Wildlife Service (FWS) and the National Marine Fisheries Service (NMFS) under Section 7 of the Endangered Species Act, with the FWS under the Fish and Wildlife Coordination Act, with the NMFS concerning Essential Fish Habitat and with the State Historic Preservation Officer.

10. Other Environmental Review and Consultation

The proposed action would involve evaluation for compliance with guidelines pursuant to Section 404(b) of the Clean Water Act; application (to the State of Florida) for Water Quality Certification pursuant to Section 401 of the Clean Water Act; certification of state lands, easements, and rights of way; and determination of Coastal Zone Management Act consistency.

11. Agency Role

The Corps and the non-Federal sponsor, the Miami-Dade County Seaport of the Port of Miami, will provide extensive information and assistance on the resources to be impacted, mitigation measures, and alternatives.

12. DEIS Preparation

It is estimated that the DEIS will be available to the public on or about November 2001.

Dated: August 10, 2001.
James C. Duck,
Chief, Planning Division.

[FR Doc. 01-21692 Filed 8-27-01; 8:45 am]

BILLING CODE 3710-AJ-M